DEPARTMENT OF TRANSPORTATION

Federal Railroad Administration

Petition for Waiver of Compliance

In accordance with Part 211 of Title 49 Code of Federal Regulations (CFR), notice is hereby given that the Federal Railroad Administration (FRA) received a request for a waiver of compliance with certain requirements of Federal railroad safety regulations. The individual petition is described below, including the party seeking relief, the regulatory provisions involved, the nature of the relief being requested, and the petitioner's arguments in favor of relief.

Norfolk Southern Corporation

[Docket Number FRA-2006-25706]

The Norfolk Southern Corporation (NS) seeks a waiver of compliance from certain provisions of 49 CFR part 232, Brake System Safety Standards for Freight and Other Non-Passenger Trains and Equipment. Specifically, it seeks a waiver from 49 CFR 232.205(a)(3), which requires a Class I air brake inspection whenever a train is “off-air” for a period of more than 4 hours on certain trains on NS's Pocahontas Division in West Virginia.

NS currently departs Gilbert Yard, West Virginia, and Weller Yard, Lee Town, West Virginia, with trains approximately 100 cars in length. These trains have a Class I brake test performed when assembled. The trains are moved to Buck main line siding where the locomotives are removed and the cars are left without means of charging air for a period of up to 24 hours. This practice also happens to trains from Weller Yard to Luke main line siding, and from Gilbert Yard to Lindsey main line siding. In each instance, another block of approximately 100 cars (previously Class I tested) are brought to the siding, where the two blocks are combined and a Class I brake inspection is performed on the first block of cars that have been sitting in the siding “off-air” for more than 4 hours. The train then departs to Portsmouth, Ohio.

NS requests relief from performing another Class I inspection on the block of cars that have been sitting in the siding “off-air” for more than 4 hours. The train travels less than 150 miles before being placed in the siding and NS contends that this waiver would reduce the exposure of their employees while performing a redundant walking inspection. NS would perform a Class III test on the cars in the sidings, when combined with the second train. NS also states that there have been no incidences of vandalism at these locations.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning this petition should identify the appropriate docket number (FRA-2006-25706) and may be submitted by one of the following methods:

• Web site: http://dms.dot.gov. Follow the instructions for submitting comments on the DOT electronic site;

• Fax: 202-493-2251;

• Mail: Docket Management Facility, U.S. Department of Transportation, 400 Seventh Street, SW., Nassif Building, Room PL-401, Washington, DC 20590-0001; or

• Hand Delivery: Room PL-401 on the plaza level of the Nassif Building, 400 Seventh Street, SW., Washington, DC, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on December 6, 2006.
Grady C. Cothen, Jr.,
Deputy Associate Administrator for Safety Standards and Program Development.

[FR Doc. E6-21013 Filed 12-11-06; 8:45 am]

BILLING CODE 4910-06-P